DEPARTMENT OF TRANSPORTATION

Maritime Administration

Assistance to Small Shipyards Grant Program

AGENCY: Maritime Administration, Department of Transportation.

ACTION: Clarification of application submission date.

Catalog of Federal Domestic Assistance Number: 20.814.

FOR FURTHER INFORMATION CONTACT: Jean E. McKeever, Associate Administrator for Business and Workforce Development, Maritime Administration, 1200 New Jersey Ave., SE., Washington, DC 20590; phone: (202) 366-5737; fax: (202) 366-6988; or e-mail: jean.mckeever@dot.gov.

Key Dates: A notice published on April 2, 2009 (74 FR 15049) advised that the period for submitting grant applications for funds under the Omnibus Appropriations Act, 2009, will terminate on May 10, 2009. Inasmuch as May 10, 2009 is a Sunday, such grant applications may be submitted on the following business day, May 11, 2009, by 5 p.m. EDT. Applications received later than this time will not be considered. The Maritime Administrator intends to award such grants no later than July 9, 2009.

Background: Under the Omnibus Appropriations Act, 2009, there is currently $17,500,000 (less two percent for program administration) available for the Small Shipyard Grant program. Separately, the American Recovery and Reinvestment Act of 2009 (ARRA) provided $100 million (less two percent for program administration) for the Small Shipyard Grant program. The availability of this source of funding was announced in the Federal Register on March 4, 2009 (74 FR 9474). Applications for grants under the ARRA must be submitted by April 20, 2009. Applications for grants under the ARRA will also be considered for funding under the Omnibus Appropriations Act, 2009, without any additional action required by the applicant. Applications for funding received by the Maritime Administration after 5 p.m. EDT on April 20, 2009 and prior to 5 p.m. EDT on May 11, 2009, will be considered for funding only under the Omnibus Appropriations Act, 2009.

Authority: 46 U.S.C. 54101; 49 CFR 1.66.

Dated: April 7, 2009.
By Order of the Acting Deputy Maritime Administrator.
Leonard Sutter,
Secretary, Maritime Administration.

[FR Doc. E9-8269 Filed 4-10-09; 8:45 am]

BILLING CODE